DEPARTMENT OF COMMERCE

National Oceanic and Atmospheric Administration

Agency Information Collection Activities; Submission to the Office of Management and Budget for Review and Approval; Comment Request; Southeast Region Individual Fishing Quota Programs

The Department of Commerce will submit the following information collection request to the Office of Management and Budget (OMB) for review and clearance in accordance with the Paperwork Reduction Act of 1995, on or after the date of publication of this notice. We invite the public and other Federal agencies to comment on proposed and continuing information collections, which helps us assess the impact of our information collection requirements and minimize the public's reporting burden. Public comments were previously requested for a 60-day period via a notice published in the Federal Register on February 13, 2024. The purpose of this notice is to allow for an additional 30-day public comment period.

Agency: National Oceanic and Atmospheric Administration, Commerce.

Title: Southeast Region Individual Fishing Quota Programs.

OMB Control Number: 0648-0551.

Form Number(s): None.

Type of Request: Regular submission—extension of a current information collection.

Number of Respondents: 1,703.

Average Hours per Response:

• Dealer Landing Transaction Report, 6 minutes for electronic form or 5 minutes for paper form used in catastrophic conditions only;

• Transfer Shares, 3 minutes;

• Share Receipt, 2 minutes;

• Individual Fishing Quota (IFQ) Notification of Landing, 5 minutes;

• Transfer Allocation, 3 minutes;

• IFQ Online Account Application, 13 minutes;

• Landing Transaction Correction Request, 5 minutes;

• Dealer Cost Recovery Fee Submission through https://www.pay.gov, 3 minutes;

• Wreckfish Quota Share Transfer, 20 minutes;

• IFQ Close Account, 3 minutes.

• Account Update, 2 minutes;

• Trip Ticket Update, 2 minutes;

• Gulf Reef Fish Notification of Landing, 3 minutes; and

• Commercial Reef Fish Landing Location Request, 5 minutes.

Total Annual Burden Hours: 1,719.

Needs and Uses: The NMFS Southeast Regional Office manages three commercial individual fishing quota (IFQ) and individual transferable quota (ITQ) programs in the U.S. southeast region under the authority of the Magnuson-Stevens Fishery Conservation and Management Act (Magnuson-Stevens Act). The IFQ programs for red snapper, and groupers and tilefishes occur in Federal waters of the Gulf of Mexico (Gulf), and the ITQ program for wreckfish occurs in Federal waters of the South Atlantic. Regulations for the IFQ and ITQ programs are located at 50 CFR part 622.

The NMFS Southeast Regional Office proposes to extend the information collection currently approved under OMB Control Number 0648-0551. This collection of information tracks the transfer and use of IFQ and ITQ shares, and IFQ allocation and landings by commercial fishermen necessary for NMFS to operate, administer, and review management of the IFQ and ITQ programs.

Affected Public: Business or other for-profit organizations.

Frequency: Annually, quarterly, and on occasion.

Respondent's Obligation: Varying Obligation: Mandatory, required to obtain or retain benefits, and Voluntary based on submitted form.

Legal Authority: 16 U.S.C. 1801 et seq.

This information collection request may be viewed at https://www.reginfo.gov. Follow the instructions to view the Department of Commerce collections currently under review by OMB.

Written comments and recommendations for the proposed information collection must be submitted within 30 days of the publication of this notice on the following website https://www.reginfo.gov/public/do/PRAMain. Find this particular information collection by selecting “Currently under 30-day Review—Open for Public Comments,” or by using the search function and entering either the title of the information collection or the OMB Control Number 0648-0551.

Sheleen Dumas,
Department PRA Clearance Officer, Office of the Under Secretary for Economic Affairs, Commerce Department.

[FR Doc. 2024-16086 Filed 7-22-24; 8:45 am]

BILLING CODE 3510-22-P